NATIONAL FOUNDATION FOR THE ARTS AND HUMANITIES

Institute of Museum and Library Services, Office of Library Services; Submission for OMB Review, Comment Request; Evaluation Professional Services Program

AGENCY: Institute of Museum and Library Services.

ACTION: Notice.

SUMMARY: The Institute of Museum Services has submitted the following public information request to the Office of Management and Budget for review and approval in accordance with the Paperwork Reduction Act of 1995 (Public Law 104-13, 44 U.S.C. Chapter 35) Currently, the Institute of Museum and Library Services is soliciting comment concerning a new collections entitled, Evaluation Professional Services Program.

A copy of the proposed instrument, with applicable supporting documentation, may be obtained by calling the Institute of Museum and Library Services, Director Office of Research and Technology, Rebecca Danvers (202) 606-2478. Individuals who use a telecommunications device for the deaf (TTY/TDD) may call (202) 606-8636.

Comments should be sent to the Office of Information and Regulatory Affairs, Attn.: OMB Desk Officer for Education, Office of Management and Budget, Room 10235, Washington, DC 20503 (202) 395-7316), by (insert 30 days from publication).

The OMB is particularly interested in comments which:

• Evaluate whether the proposed collection of information is necessary for the proper performance of the functions of the agency, including whether the information will have practical utility;

• Evaulate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Background

Type of Review: New.

Agency: Institute of Museum and Library Services.

Title: Evaluation Professional Services Program.

OMB Number: N/A.

Affected Publics: museums.

Total Respondents: 400.

Frequency: once.

Total Responses: 400.

Average Time per Response: 10-45 minutes.

Estimated Total Burden Hours: 78 hours.

Total Burden Cost (capital/startup): $0.

Total Burden Cost (operating/maintenance): $0.

FOR FURTHER INFORMATION CONTACT: Mamie Bittner, Director Public and Legislative Affairs, Institute of Museum and Library Services, 1100 Pennsylvania Ave., NW., Washington, DC 20506.

Dated: December 4, 2000.
Mamie Bittner,
Director Public and Legislative Affairs.

[FR Doc. 00-31295 Filed 12-7-00; 8:45 am]

BILLING CODE 7036-01-M